DEPARTMENT OF JUSTICE

[CPCLO Order No. 001-2019]

Privacy Act of 1974; Systems of Records

AGENCY: Criminal Division, United States Department of Justice.

ACTION: Notice of a modified System of Records.

SUMMARY: Pursuant to the Privacy Act of 1974 and Office of Management and Budget (OMB) Circular No. A-108, notice is hereby given that the Criminal Division (CRM), a component within the United States Department of Justice (DOJ or Department), proposes to modify the existing System of Records Notice titled “United States Victims of State Sponsored Terrorism Fund (USVSSTF) File System,” JUSTICE/CRM-029, last published in its entirety in the Federal Register at 81 FR 45539 (July 14, 2016), and amended at 82 FR 24151 (May 25, 2017). CRM proposes to add three additional routine uses and provide non-substantive updates to its current statutory authorization.

DATES: In accordance with 5 U.S.C. 552a(e)(4) and (11), this notice is effective upon publication, subject to a 30-day comment period for the routine uses claimed in the “ROUTINE USES OF RECORDS MAINTAINED IN THE SYSTEM” section of this system of records notice. Therefore, please submit any comments by July 10, 2019.

ADDRESSES: The public, OMB, and Congress are invited to submit any comments to the Department of Justice, ATTN: Privacy Analyst, Office of Privacy and Civil Liberties, Department of Justice, Two Constitution Square, 145 N Street NE, Suite 8W.300, Washington, DC 20530, by facsimile at 202-307-0693, or by email at privacy.compliance@usdoj.gov. To ensure proper handling, please reference the above-listed CPCLO Order No. on your correspondence.

FOR FURTHER INFORMATION CONTACT: Amanda Marchand Jones, Chief, FOIA/PA Unit, Criminal Division, 1301 New York Avenue NW, Washington, DC 20530; phone at (202) 616-0307; facsimile at (202) 514-6117.

SUPPLEMENTARY INFORMATION: The United States Victims of State Sponsored Terrorism Fund (“Fund”) was established by the Justice for United States Victims of State Sponsored Terrorism Act (“Act”), 34 U.S.C. 20144, formerly codified as 42 U.S.C. 10609. Pursuant to the Act, the Fund may compensate eligible United States persons who (1) hold a final judgment issued by a United States district court awarding the applicant compensatory damages arising from acts of international terrorism for which a foreign state sponsor of terrorism was found not immune from the jurisdiction of the courts of the United States under the Foreign Sovereign Immunities Act; or (2) were taken and held hostage from the United States Embassy in Tehran, Iran, during the period beginning November 4, 1979, and ending January 20, 1981, or are spouses and children of these hostages, if also identified as a member of the proposed class in case number 1:00-CV-03110 (EGS) of the United States District Court for the District of Columbia.

The Department previously published the current System of Records Notice, “United States Victims of State Sponsored Terrorism Fund (USVSSTF) File System,” JUSTICE/CRM 029, in the Federal Register at 81 FR 45539 (July 14, 2016). The JUSTICE/CRM 029 system collects, maintains, and generates records used by CRM to adjudicate applicants' claims for compensation filed with the Fund. Applications are submitted to the Fund by individual claimants, counsel for claimants, and personal representatives of the estates of deceased individuals. A claimant must provide sufficient information to allow the Fund's Special Master to determine whether the claimant is eligible to receive compensation, and if so, what amount of compensation. The Act mandates the collection of information regarding other sources of compensation received by claimant related to the judgment, which may modify the amount of compensation. CRM receives and maintains copies of the application forms filed with the Fund; documentation submitted in support of the claims; and records obtained or generated to assess, adjudicate, and pay claims.

CRM proposes two substantive modifications. First, CRM proposes an update to the statutory citation of the Act, to reflect its recodification from 42 U.S.C. 10609 to 34 U.S.C. 20144. Second, CRM proposes to add three routine uses that would permit the disclosure of information in the system to: (1) Professional organizations or associations with which individuals covered by this system of records may be affiliated, to meet their responsibilities in connection with the administration and maintenance of standards of conduct and discipline; (2) agencies, organizations, and individuals for the purposes of audit and oversight operations, and meeting reporting requirements; and (3) recipients as mandated by Federal statute or treaty.

These additional routine uses were not originally proposed when JUSTICE/CRM-029 was first published. The new routine uses will promote transparency and accountability, and assist the Department and the Special Master in administering the Fund. First, the disclosure to professional organizations or associations allows the Fund to, for example, share information with appropriate authorities related to an attorney's conduct in order to ensure the proper evaluation of claims and compliance with the Act's limitations on attorneys' fees, and to maintain the integrity of the Fund. Second, disclosure to entities or individuals conducting audits or oversight is required by Department policies and will assist in maintaining the integrity of the Fund. Lastly, disclosures mandated by Federal statute or treaty are required to comply with legal requirements, including the Act's provisions regarding subrogation rights and relations between foreign states and the United States. Accordingly, these new routine uses are related to and compatible with the original purpose of JUSTICE/CRM 029.

In accordance with 5. U.S.C. 552a(r), the Department has provided a report to OMB and Congress on this notice of a modified system of records.

Dated: June 3, 2019.
Peter A. Winn,
Acting Chief Privacy and Civil Liberties Officer, United States Department of Justice.

JUSTICE/CRM-029

SYSTEM NAME AND NUMBER:

United States Victims of State Sponsored Terrorism Fund (USVSSTF) File System, JUSTICE/CRM-029.

SECURITY CLASSIFICATION:

Unclassified.

SYSTEM LOCATION:

Records in this system are located at: U.S. Department of Justice, Criminal Division, 950 Pennsylvania Avenue NW, Washington, DC 20530; Federal Records Center, Suitland, MD 20409, 5151 Blazer Parkway, Suite A, Dublin, OH 43017; and 1985 Marcus Avenue, Suite 200, Lake Success, NY 11042.

SYSTEM MANAGER(S) AND ADDRESS:

Assistant Attorney General, Criminal Division, U.S. Department of Justice, 950 Pennsylvania Avenue NW, Washington, DC 20503-0001.

* * * * *

AUTHORITY FOR MAINTENANCE OF THE SYSTEM:

[Delete existing paragraph and replace with the following:]

Justice for United States Victims of State Sponsored Terrorism Act, enacted into law as Title IV, Division O, section 404 of the Consolidated Appropriations Act, 2016, Public Law 114-113, codified at 34 U.S.C. 20144.

* * * * *

ROUTINE USES OF RECORDS MAINTAINED IN THE SYSTEM, INCLUDING CATEGORIES OF USERS AND THE PURPOSES OF SUCH USES:

* * * * *

[Add routine uses (l) through (n) as follows:]

(l) To professional organizations or associations with which individuals covered by this system of records may be affiliated, such as state bar disciplinary authorities, to meet their responsibilities in connection with the administration and maintenance of standards of conduct and discipline.

(m) To any agency, organization, or individual for the purpose of performing authorized audit or oversight operations of the Department and meeting related reporting requirements.

(n) To such recipients and under such circumstances and procedures as are mandated by Federal statute or treaty.

* * * * *

HISTORY:

[Delete existing paragraph and replace with the following:]

81 FR 45539 (July 14, 2016): Last published in full.

82 FR 24151, 156 (May 25, 2017): Modified to revise existing and add new routine uses.

[FR Doc. 2019-12153 Filed 6-7-19; 8:45 a.m.]

BILLING CODE 4410-14-P